DEPARTMENT OF ENERGY

Federal Energy Regulatory Commission

[Docket No. RP05-535-000]

Northern Natural Gas Company; Notice of Tariff Filing

August 10, 2005.

Take notice that on August 4, 2005, Northern Natural Gas Company (Northern) tendered for filing to become part of its FERC Gas Tariff, Fifth Revised Volume No. 1, the following tariff sheets proposed to be effective on May 1, 2005 and June 1, 2005 as follows:

3 Revised Substitute 70 Revised Sheet No. 53,

1 Revised Substitute 71 Revised Sheet No. 53,

2 Revised Substitute 71 Revised Sheet No. 53.

Northern states that the above tariff sheets are being filed to incorporate the tariff language addressing the rate treatment for the Waterville storage point, approved by the Commission in Docket No. RP05-229-000, effective May 1, 2005, into the tariff sheets containing the settlement rates in Docket Nos. RP03-398-000 and RP04-155-000, effective May 1, 2005, and the tariff sheets containing Northern's fuel and unaccounted for percentages approved by the Commission in Docket No. RP05-296-000, effective June 1, 2005.

Northern further states that copies of the filing have been mailed to each of its customers and interested State Commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-4447 Filed 8-15-05; 8:45 am]

BILLING CODE 6717-01-P